DEPARTMENT OF TRANSPORTATION

Office of the Secretary

14 CFR Part 259

[Docket No. DOT-OST-2016-0208]

RIN 2105-AE53

Refunding Baggage Fees for Delayed Checked Bags

AGENCY: Office of the Secretary (OST), Department of Transportation (DOT).

ACTION: Extension of comment period on advance notice of proposed rulemaking.

SUMMARY: This action extends the comment period for an Advance Notice of Proposed Rulemaking on refunding baggage fees for delayed checked bags that was published in the Federal Register on October 31, 2016. The Department of Transportation is extending the period for persons to submit comments on this rulemaking from November 30, 2016, to January 17, 2017. This extension is in response to a petition by Airlines for America.

DATES: Comments should be filed by January 17, 2017. Late-filed comments will be considered to the extent practicable.

ADDRESSES: You may file comments identified by the docket number DOT-OST-2016-0208 by any of the following methods:

• Federal eRulemaking Portal: go to http://www.regulations.gov and follow the online instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9:00 a.m. and 5:00 p.m. ET, Monday through Friday, except Federal holidays.

• Fax: (202) 493-2251.

Instructions: You must include the agency name and docket number DOT-OST-2016-0208 or the Regulatory Identification Number (RIN) for the rulemaking at the beginning of your comment. All comments received will be posted without change to http://www.regulations.gov, including any personal information provided.

Privacy Act: Anyone is able to search the electronic form of all comments received in any of our dockets by the name of the individual submitting the comment (or signing the comment, if submitted on behalf of an association, business, labor union, etc.). You may review DOT's complete Privacy Act statement in the Federal Register published on April 11, 2000 (65 FR 19477-78), or you may visit http://DocketsInfo.dot.gov.

Docket: For access to the docket to read background documents and comments received, go to http://www.regulations.gov or to the street address listed above. Follow the online instructions for accessing the docket.

FOR FURTHER INFORMATION CONTACT: Clereece Kroha, Senior Trial Attorney, Office of Aviation Enforcement and Proceedings, U.S. Department of Transportation, 1200 New Jersey Ave. SE., Washington, DC 20590, 202-366-9342, 202-366-7152 (fax), clereece.kroha@dot.gov (email).

SUPPLEMENTARY INFORMATION: On October 31, 2016, the Department of Transportation published an Advance Notice of Proposed Rulemaking (ANPRM) to solicit public comment on how to appropriately implement a statutory requirement in recent legislation for airlines to refund checked baggage fees when they fail to deliver the bags in a timely manner. Specifically, the Department seeks comment on how to define a baggage delay, and the appropriate method for providing the refund for delayed baggage. See 81 FR 75347 (October 31, 2016). Comments on the matters discussed in the ANPRM were to be received 30 days after publication or by November 30, 2016.

On November 15, 2016, we received a petition from Airlines for America (A4A) for a 48-day extension of the comment period for this rulemaking. According to the petition, the extension is appropriate because the ANPRM concerns a requirement that implicates several operational and financial disciplines within the airlines, which will require the assessment of how internal information systems should be re-worked. A4A also indicates that additional time is needed in order to coordinate comments from different member carriers. Further, A4A points out that the current comment period is effectively diminished by the Thanksgiving holiday and an extension into December would be similarly diminished by the Christmas holiday season because many personnel would take extended vacations during these time periods. We received no comments on A4A's petition for extension.

After carefully considering A4A's petition, we have decided to grant the extension of 48 days (January 17, 2017), for the public to comment on the ANPRM.

Issued this 18th day of November, 2016, in Washington, DC.
Judith S. Kaleta,
Deputy General Counsel.

[FR Doc. 2016-28681 Filed 11-28-16; 8:45 am]

BILLING CODE 4910-9X-P